DEPARTMENT OF COMMERCE

International Trade Administration

[A-549-812]

Extension of Time Limits for Preliminary Results and Final Results of the Full Sunset Review of the Antidumping Duty Order on Furfuryl Alcohol from Thailand

AGENCY: Import Administration, International Trade Administration, U.S. Department of Commerce.

EFFECTIVE DATE: July 14, 2006.

FOR FURTHER INFORMATION CONTACT: Audrey R. Twyman, Damian Felton, or Brandon Farlander, AD/CVD Operations, Office 1, Import Administration, International Trade Administration, U.S. Department of Commerce, 14th Street & Constitution Avenue, NW., Washington, DC, 20230; telephone: 202-482-3534, 202-482-0133, and 202-482-0182, respectively.

SUPPLEMENTARY INFORMATION:

Background

The Department of Commerce (“the Department”) initiated this second sunset review of furfuryl alcohol from Thailand on April 3, 2006. See Initiation of Five-year “Sunset” Reviews, 71 FR 16551 (April 3, 2006). On April 7, 2006, we received notification of intent to participate from the domestic interested party, Penn Speciality Chemicals, Inc. We received substantive responses to the notice of initiation on May 2, 2006, from the domestic interested party, and on May 3, 2006, from the respondent interested party, Indorama Chemicals (Thailand) Ltd. On May 8, 2006, we received rebuttal comments from the domestic interested party.

On May 23, 2006, the Department determined to conduct a full sunset review of the antidumping duty order on furfuryl alcohol from Thailand as provided at section 751(c)(5)(A) of the Tariff Act of 1930, as amended (“the Act”) and at section 351.218 (e)(2)(i) of the Department's regulations because: (1) the domestic interested party's and respondent interested party's substantive responses met the requirements of section 351.218(d)(3) of the Department's regulations, and (2) both the information on the record and our review of the proprietary CBP data, indicated that the respondent interested party accounts for more than 50 percent of the exports to the United States, the level that the Department normally considers to be an adequate response to the notice of initiation by respondent interested parties under section 351.218 (e)(1)(ii)(A).

Extension of Time Limits

In accordance with section 751(c)(5)(B) of the Act, the Department may extend the period of time for making its determination by not more than 90 days, if it determines that the review is extraordinarily complicated. On May 2, May 3, and May 8, 2006, the parties filed comments raising various issues. Because some of these issues are complex, the Department has determined, pursuant to section 751(c)(5)(C)(ii) of the Act, that the sunset review is extraordinarily complicated and will require additional time for the Department to complete its analysis.

The Department's preliminary results of the full sunset review of the antidumping duty order on furfuryl alcohol from Thailand are scheduled for July 22, 2006, and the final results are scheduled for November 29, 2006. As a result of our decision to extend the deadlines, the Department intends to issue the preliminary results of the full sunset review of the antidumping duty order on furfuryl alcohol from Thailand no later than October 20, 2006, and the final results of the review no later than February 27, 2007. These dates are 90 days from the originally scheduled dates of the preliminary and final results of this sunset review.

This notice is issued in accordance with sections 751(c)(5)(B) and (C)(ii) of the Act.

Dated: July 10, 2006.
Stephen J. Claeys,
Deputy Assistant Secretary for Import Administration.

[FR Doc. E6-11126 Filed 7-13-06; 8:45 am]

BILLING CODE 3510-DS-S